DEPARTMENT OF ENERGY

Federal Energy Regulatory Commission

Combined Notice of Filings #1

Take notice that the Commission received the following Complaints and Compliance filings in EL Dockets:

Docket Numbers: EL00-95-315; EL00-98-286.

Applicants: Investigation of Practices of the California Independent System Operator and the California Power Exchange, San Diego Gas & Electric Company v. Sellers of Energy and Ancillary Services.

Description: California Parties' Notice of Market Participants in Default and Request for Initiation of Commission Enforcement Proceedings.

Filed Date: 2/22/22.

Accession Number: 20220222-5232.

Comment Date: 5 p.m. ET 3/15/22.

Take notice that the Commission received the following electric rate filings:

Docket Numbers: ER20-1958-002.

Applicants: Puget Sound Energy, Inc.

Description: Compliance filing: Amended Order No. 864 Compliance Filing to be effective 1/27/2020.

Filed Date: 2/28/22.

Accession Number: 20220228-5031.

Comment Date: 5 p.m. ET 3/21/22.

Docket Numbers: ER21-1241-002.

Applicants: ISO New England Inc., New England Power Company.

Description: Compliance filing: ISO New England Inc. submits tariff filing per 35: New England Power Company; ER21-1241—Compliance Filing to Rev. Effective Date to be effective 1/27/2020.

Filed Date: 2/28/22.

Accession Number: 20220228-5094.

Comment Date: 5 p.m. ET 3/21/22.

Docket Numbers: ER21-1654-002.

Applicants: ISO New England Inc., The Connecticut Light and Power Company.

Description: Compliance filing: ISO New England Inc. submits tariff filing per 35: The Connecticut Light and Power Company; Docket No. ER21-1654 to be effective 1/27/2020.

Filed Date: 2/28/22.

Accession Number: 20220228-5042.

Comment Date: 5 p.m. ET 3/21/22.

Docket Numbers: ER21-1702-003.

Applicants: ISO New England Inc., Central Maine Power Company.

Description: Compliance filing: ISO New England Inc. submits tariff filing per 35: Central Maine Power; ER21-1702_ to be effective 1/27/2020.

Filed Date: 2/28/22.

Accession Number: 20220228-5217.

Comment Date: 5 p.m. ET 3/21/22.

Docket Numbers: ER21-2900-004.

Applicants: Duke Energy Florida, LLC, Duke Energy Carolinas, LLC, Duke Energy Progress, LLC.

Description: Compliance filing: Duke Energy Florida, LLC submits tariff filing per 35: Network Contract Demand Compliance Filing to be effective 11/17/2021.

Filed Date: 2/28/22.

Accession Number: 20220228-5194.

Comment Date: 5 p.m. ET 3/21/22.

Docket Numbers: ER22-272-001.

Applicants: Gulf Power Company.

Description: Tariff Amendment: Response to Deficiency Letter to be effective 1/1/2022.

Filed Date: 2/28/22.

Accession Number: 20220228-5061.

Comment Date: 5 p.m. ET 3/21/22.

Docket Numbers: ER22-273-001.

Applicants: Florida Power & Light Company.

Description: Tariff Amendment: FPL-LCEC RS 317 Response to Deficiency Letter to be effective 1/1/2022.

Filed Date: 2/28/22.

Accession Number: 20220228-5066.

Comment Date: 5 p.m. ET 3/21/22.

Docket Numbers: ER22-276-001.

Applicants: Florida Power & Light Company.

Description: Tariff Amendment: FPL-FKEC RS 322 Response to Deficiency Letter to be effective 1/1/2022.

Filed Date: 2/28/22.

Accession Number: 20220228-5070.

Comment Date: 5 p.m. ET 3/21/22.

Docket Numbers: ER22-355-000; ER22-355-001.

Applicants: ISO New England Inc.

Description: Informational Filing which contains non-public versions of its Resource Termination Filing and its Motion for Leave to File Answer and Answer of ISO-New England, Inc.

Filed Date: 2/24/22.

Accession Number: 20220224-5231.

Comment Date: 5 p.m. ET 3/17/22.

Docket Numbers: ER22-486-001.

Applicants: PJM Interconnection, L.L.C.

Description: Tariff Amendment: Response to 1/27/2022 Deficiency Notice re: Docket No. ER22-486-000 to be effective 1/29/2022.

Filed Date: 2/28/22.

Accession Number: 20220228-5088.

Comment Date: 5 p.m. ET 3/21/22.

Docket Numbers: ER22-643-001.

Applicants: Southwest Power Pool, Inc.

Description: Tariff Amendment: 3881 Southwestern Power Admin & AEP OK—Deficiency Response to be effective 12/1/2021.

Filed Date: 2/28/22.

Accession Number: 20220228-5011.

Comment Date: 5 p.m. ET 3/21/22.

Docket Numbers: ER22-644-001.

Applicants: Southwest Power Pool, Inc.

Description: Tariff Amendment: 3882 Southwestern Power Admin&Publ Ser—Deficiency Response to be effective 12/1/2021.

Filed Date: 2/28/22.

Accession Number: 20220228-5018.

Comment Date: 5 p.m. ET 3/21/22.

Docket Numbers: ER22-1123-000.

Applicants: Elk Hill Solar 1, LLC.

Description: Baseline eTariff Filing: Reactive Power Compensation Filing to be effective 3/1/2022.

Filed Date: 2/28/22.

Accession Number: 20220228-5002.

Comment Date: 5 p.m. ET 3/21/22.

Docket Numbers: ER22-1124-000.

Applicants: NSTAR Electric Company.

Description: § 205(d) Rate Filing: New England Power Company—Facilities Support Agreement to be effective 2/22/2022.

Filed Date: 2/28/22.

Accession Number: 20220228-5034.

Comment Date: 5 p.m. ET 3/21/22.

Docket Numbers: ER22-1125-000.

Applicants: Basin Electric Power Cooperative.

Description: § 205(d) Rate Filing: Basin Electric Notice of Cancellation of Load Incentive Rate to be effective 3/1/2022.

Filed Date: 2/28/22.

Accession Number: 20220228-5052.

Comment Date: 5 p.m. ET 3/21/22.

Docket Numbers: ER22-1126-000.

Applicants: Cheyenne Light, Fuel and Power Company.

Description: Informational Filing of 2022 Formula Rate Annual Update of Cheyenne Light, Fuel and Power Company.

Filed Date: 2/25/22.

Accession Number: 20220225-5263.

Comment Date: 5 p.m. ET 3/18/22.

Docket Numbers: ER22-1127-000.

Applicants: Tri-State Generation and Transmission Association, Inc.

Description: § 205(d) Rate Filing: Service Agreement No. 904 to be effective 2/25/2022.

Filed Date: 2/28/22.

Accession Number: 20220228-5121.

Comment Date: 5 p.m. ET 3/21/22.

Docket Numbers: ER22-1128-000.

Applicants: Alabama Power Company, Georgia Power Company, Mississippi Power Company.

Description: § 205(d) Rate Filing: Alabama Power Company submits tariff filing per 35.13(a)(2)(iii: PEHA bn (Pepper Hammock Solar & Storage) LGIA Filing to be effective 2/11/2022.

Filed Date: 2/28/22.

Accession Number: 20220228-5136.

Comment Date: 5 p.m. ET 3/21/22.

Docket Numbers: ER22-1129-000.

Applicants: Southwest Power Pool, Inc.

Description: § 205(d) Rate Filing: 1628R20 Western Farmers Electric Cooperative NITSA NOAs to be effective 2/1/2022.

Filed Date: 2/28/22.

Accession Number: 20220228-5139.

Comment Date: 5 p.m. ET 3/21/22.

Docket Numbers: ER22-1130-000.

Applicants: Midwest Generation, LLC.

Description: § 205(d) Rate Filing: Proposed Revisions to Reactive Service Rate Schedule to be effective 6/1/2022.

Filed Date: 2/28/22.

Accession Number: 20220228-5198.

Comment Date: 5 p.m. ET 3/21/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: February 28, 2022.
Debbie-Anne A. Reese,
Deputy Secretary.

[FR Doc. 2022-04601 Filed 3-3-22; 8:45 am]

BILLING CODE 6717-01-P